DEPARTMENT OF ENERGY

Federal Energy Regulatory Commission

[Docket No. IC23-10-000]

Commission Information Collection Activity (FERC-603); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collections, FERC-603 (Critical Energy/Electric Infrastructure Information Data Request).

DATES: Comments on the collections of information are due May 30, 2023.

ADDRESSES: You may submit your comments (identified by Docket No. IC23-10-000) on FERC-603 by one of the following methods:

Electronic filing through https://www.ferc.gov is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov, or by telephone at (202) 502-8663.

SUPPLEMENTARY INFORMATION:

Title: FERC-603, Critical Energy/Electric Infrastructure Information Data Request.

OMB Control No.: 1902-0197.

Type of Request: Three-year extension of the FERC-603 information collection requirements with no changes to the current reporting and recordkeeping requirements.¹

¹ The CEII request form and five versions of the non-disclosure agreement (General Non-Disclosure Agreement, Media Non-Disclosure Agreement, Federal Agency Acknowledgement and Agreement, State Agency Employee Non-Disclosure Agreement, and Consultant Non-Disclosure Agreement) are posted at https://www.ferc.gov/legal/ceii-foia/ceii.asp.

Abstract: In accordance with section 215A(d) of the Federal Power Act ² and 18 CFR 388.113, this collection of information provides that persons may seek Critical Energy/Electric Infrastructure Information (CEII). To receive CEII, they must show they have a legitimate need for such information, and they must submit a non-disclosure agreement that decreases the likelihood that such information could be used to plan or execute terrorist attacks.

² 16 U.S.C. 824o-1(d).

This collection of information provides an alternative to seeking CEII in accordance with the Freedom of Information Act (FOIA).³ That statute requires federal agencies to disclose the requested information unless one or more of several FOIA exemptions justifies withholding of the requested information. In the case of CEII, two FOIA exemptions are likely to apply to CEII,⁴ and frequently result in a decision to withhold the information from the FOIA requester. The Commission realizes that this process could prevent persons with a legitimate need for CEII from obtaining such information. For example, market participants seeking to develop new or expanded energy resources may have such a need.

³ 5 U.S.C. 552 (2018).

⁴ The relevant FOIA exemptions are Exemption 3, which allows the withholding f information prohibited from disclosure by another statute and Exemption 7, which protects from disclosure certain law enforcement information, including information the disclosure of which might jeopardize a person's life or safety.

In the aftermath of the September 11, 2001 terrorist attacks, the Commission determined that it was important to improve the appropriate treatment of CEII, both to assist requesters with a legitimate need for CEII, and to restrict access to the sensitive information due to the ongoing terrorism threat. The Commission promulgated 18 CFR 388.113 to achieve those goals.

Under 18 CFR 388.13(g)(5), a request for CEII must contain:

• The requester's name, title, address, and telephone number;

• The name, address, and telephone number of the person or entity on whose behalf the information is requested;

• A detailed Statement of Need; and

• An executed non-disclosure agreement.

Under 18 CFR 388.133(h)(2), the non-disclosure agreement indicates the individual's willingness to adhere to limitations on the use and disclosure of the information requested, and stipulates at minimum that the CEII:

• Will only be used for the purpose for which it was requested;

• May only be discussed with authorized recipients;

• Must be kept in a secure place in a manner that would prevent unauthorized access;

• Must be destroyed or returned to the Commission upon request; and

• Is not subject to release under either FOIA or Sunshine Laws.

In addition, the non-disclosure agreement provides that the Commission may audit the recipient's compliance with the non-disclosure agreement; that a recipient is obligated to protect the CEII even after a designation has lapsed ⁵ until the CEII Coordinator ⁶ determines the information should no longer be designated as CEII; and the recipient is required to promptly report all unauthorized disclosures of CEII to the Commission.

⁵ The Commission's regulation at 18 CFR 388.113 provides criteria and procedures to designate information as CEII. A designation may last for up to five years, unless it is re-designated. A designation may be removed at any time, in whole in part, if the Commission determines that the unauthorized disclosure of CEII can no longer be used to impair the security or reliability of the bulk-power system or distribution facilities or any other form of energy infrastructure.

⁶ The regulation at 18 CFR 375.313 delegates authority to a CEII Coordinator to receive and review all requests for CEII, make determinations regarding such requests, establish reasonable conditions on the release of CEIII, and release CEII to requesters who agree in writing to abide by the conditions set forth by the Coordinator.

Type of Respondents: Persons seeking access to CEII.

Estimate of Annual Burden: The Commission estimates the total annual burden ⁷ and cost ⁸ for this information collection as follows.

⁷ “Burden” is the total time, effort, or financial resources expended by persons to generate, maintain, retain, or disclose or provide information to or for a federal agency. For further explanation of what is included in the information collection burden, refer to 5 CFR 1320.3.

⁸ The Commission staff thinks that the average respondent for this collection is similarly situated to the Commission, in terms of salary plus benefits. Based upon the FERC's 2022 average cost for salary plus benefits, the average hourly cost is $91/hour.

Number of respondents | Annual number of responses per respondent | Total number of responses | Average burden & cost per response | Total annual burden hours & total annual cost | Cost per respondent ($)
(1) | (2) | (3) (column 1 × column 2) | (4) | (5) (column 3 × column 4) | (6) (column 5 ÷ column 1)
50 | 1 | 50 | 0.3 hrs.; $27.30 | 15 hrs.; $1,365 | $27.30

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: March 24, 2023.
Debbie-Anne A. Reese,
Deputy Secretary.

[FR Doc. 2023-06598 Filed 3-29-23; 8:45 am]

BILLING CODE 6717-01-P